DEPARTMENT OF TRANSPORTATION

Pipeline and Hazardous Materials Safety Administration

[Docket No. PHMSA-RSPA-2004-19856]

Pipeline Safety: Notice to Hazardous Liquid Pipeline Operators of Request for Voluntary Advance Notification of Intent To Transport Biofuels

AGENCY: Pipeline and Hazardous Materials Safety Administration (PHMSA), DOT.

ACTION: Notice; Issuance of Advisory Bulletin.

SUMMARY: PHMSA is requesting that any hazardous liquid pipeline operator intending to transport ethanol, ethanol-gasoline blends, or other biofuels by pipeline voluntarily provide us with advance notice of their intent to transport these fuels to facilitate cooperation in achieving safety. We request that any operator intending to field test transportation of biofuels by pipeline notify PHMSA of such testing in advance so that PHMSA can work with the operator to address any safety concerns that arise. PHMSA will be interested in discussing the steps the operator will take to ensure safety during the test and informing the local emergency response officials about the product being transported.

FOR FURTHER INFORMATION CONTACT: Alan Mayberry, (202) 366-5124, or by e-mail at alan.mayberry@dot.gov.

SUPPLEMENTARY INFORMATION:

I. Background

On August 10, 2007, PHMSA published a Federal Register document regarding the transportation of ethanol and biofuels by pipeline (72 FR 45002). PHMSA advised pipeline operators that the transportation of batches of ethanol or other biofuels in an existing petroleum products pipeline, and the transportation of blends of biofuels and petroleum products, are subject to the pipeline safety regulations and standards. The document described the potential technical issues associated with transporting biofuels by pipeline including internal corrosion and stress corrosion cracking, and the performance of seals, gaskets and internal coatings. As with the transportation of any hazardous liquid by pipeline, operators intending to transport these new fuels are expected to conduct risk analysis, monitoring, and controls as needed to move biofuels safely as well as conduct spill response planning for the new product. PHMSA seeks to work with pipeline operators that plan to transport these new fuels in existing regulated hazardous liquid pipelines (or in new pipelines that might be constructed for the purpose of transporting ethanol or biofuels). Accordingly, we are requesting that operators provide us with advance notice of their intent to transport these fuels to facilitate cooperation in achieving safety.

II. Advisory Bulletin (ADB-08-05)

To: Owners and Operators of Hazardous Liquid Pipeline Systems.

Subject: Notice to Operators of Request for Voluntary Advance Notification of Intent to Transport Biofuels.

Advisory: On August 10, 2007, PHMSA published a Federal Register document on the applicability of the pipeline safety regulations to the transportation of ethanol and biofuels by pipeline (72 FR 45002). In the document, PHMSA noted the technical issues associated with transporting biofuels by pipeline including internal corrosion and stress corrosion cracking, and the performance of seals, gaskets and internal coatings. As with the transportation of any hazardous liquid by pipeline, operators intending to transport these new fuels are expected to conduct risk analysis, monitoring, and controls as needed to move biofuels safely as well as conduct spill response planning for the new product. PHMSA seeks to work with pipeline operators that plan to transport these new fuels in existing regulated hazardous liquid pipelines or in new pipelines that might be constructed for the purpose of transporting ethanol or biofuels. Accordingly, we are requesting that operators provide us with advance notice of their intent to transport these fuels to facilitate cooperation in achieving safety.

Notice of Field Testing: PHMSA seeks to encourage field testing by pipeline operators to accelerate the development of knowledge about the safe and reliable transportation of ethanol and biofuels by pipeline. We are requesting that any operator intending to field test transportation of biofuels by pipeline provide advance notification to PHMSA of such testing so that PHMSA can work with the operator to address any safety concerns that arise. To the extent proprietary concerns permit, PHMSA also seeks to share in the evaluation of the results to supplement the information we are receiving from our collaborative research efforts and help facilitate standards development. Although such field testing would be limited in scope and duration, PHMSA will be interested in discussing the steps the operator will take to ensure safety during the test and inform local emergency response officials about the product being transported.

Commencement of Commercial Operations: Under 49 CFR part 195, an operator is obligated to modify its operating procedures, integrity management programs, and emergency response plans, among other things, prior to commencing commercial transportation of a new hazardous liquid. Under part 194, operators must also update their spill response plans to account for the new product being transported. PHMSA will apply its proven risk-based regulatory approach to the operation of pipelines transporting these fuels. PHMSA requests that any operator intending to commence regular commercial transportation of ethanol or other biofuels provide advance notification to PHMSA as soon as possible, but preferably 60 days in advance, to provide time for review. PHMSA is interested in learning about: The work to be performed to prepare the pipeline for ethanol or biofuel service; the anticipated blend concentration and batch frequency; the additional employee training to be conducted; the additional emergency response planning and liaison with local emergency response officials, including spill response plans; and the plans for ongoing monitoring of the integrity of the pipe. We would also like to know what modifications operators will make to their written operating and maintenance procedures, including their integrity management program and spill response plans prior to commencement of operations. On being notified by an operator about the new biofuel operations and associated program modifications, PHMSA will work closely with the operator and provide technical review and feedback.

Submittal: Notifications may be submitted in writing to: Information Resources Manager, Office of Pipeline Safety, Pipeline and Hazardous Materials Safety Administration, 1200 New Jersey Avenue, SE., Washington, DC 20590, by e-mail to informationresourcesmanager@phmsa.dot.gov, or by fax to 202-366-7128. PHMSA requests the name, title, telephone number, and e-mail address of the person responsible for compliance with the integrity management requirements and a physical description of facilities involved including pipe design, manufacture, vintage, diameter, relevant operating history, and presence of any breakout tanks along with project timelines. The public may view summaries of all notifications that have been submitted by operators, and the status of PHMSA review of each notification, via this Web site. PHMSA expects to receive fewer than ten notifications per year.

Review: PHMSA will review all notifications received from operators. Review may include site inspections by PHMSA or state pipeline safety agencies, particularly in states with certified hazardous liquid programs. If PHMSA finds that an operator's plans and operating procedures need additional attention or modification, we will provide feedback to the operator.

Authority: 49 U.S.C. chapter 601; 49 CFR 1.53.

Issued in Washington, DC, on June 18, 2008.
William H. Gute,
Deputy Associate Administrator for Pipeline Safety.

[FR Doc. E8-14137 Filed 6-24-08; 8:45 am]

BILLING CODE 4910-60-P